DEPARTMENT OF THE TREASURY

Office of the Comptroller of the Currency

[Docket ID OCC-2011-0025]

Mutual Savings Association Advisory Committee

AGENCY: Department of the Treasury, Office of the Comptroller of the Currency.

ACTION: Request for nominations.

SUMMARY: The Office of the Comptroller of the Currency (OCC) has determined to carry on the work of the Mutual Savings Association Advisory Committee (MSAAC or Committee) formerly administered by the Office of Thrift Supervision, as it is necessary and in the public interest in order for the OCC to study the needs of and challenges facing mutual savings associations. The OCC is seeking nominations of individuals who are officers and/or directors of mutual savings associations to be considered for selection as MSAAC members.

DATES: Nominations must be received on or before January 17, 2012.

ADDRESSES: Nominations should be sent to msaac.nominations@occ.treas.gov or mailed to: Timothy T. Ward, Deputy Comptroller for Thrift Supervision, 250 E Street SW., Washington, DC 20219.

FOR FURTHER INFORMATION CONTACT: Kristin Merritt, Special Counsel, Administrative & Internal Law, (202) 874-4681, Office of the Comptroller of the Currency, 250 E Street SW., Washington, DC 20219.

SUPPLEMENTARY INFORMATION: The OCC has determined that the continuation of the MSAAC under the OCC's administration is necessary and in the public interest. The Committee will be administered by the OCC in accordance with the Federal Advisory Committee Act, 5 U.S.C. App. 1, section 9(c). The Committee will advise the OCC on ways to meet the goals established by section 5(a) of the Home Owners' Loan Act (HOLA), 12 USC 1464. The Committee will advise the OCC with regard to mutual associations on means to: (1) Provide for the organization, incorporation, examination, operation and regulation of associations to be known as federal savings associations (including federal savings banks); and (2) issue charters therefore, giving primary consideration of the best practices of thrift institutions in the United States. The MSAAC will help meet those goals by providing OCC with informed advice and recommendations regarding the current and future circumstances and needs of mutual savings associations.

Nominations should describe and document the proposed member's qualifications for MSAAC membership. Committee members are not compensated for their time, but are eligible for reimbursement of travel expenses in accordance with applicable federal law and regulations.

Dated: November 10, 2011.
By the Office of the Comptroller of the Currency.
John Walsh,
Acting Comptroller of the Currency.

[FR Doc. 2011-29707 Filed 11-16-11; 8:45 am]

BILLING CODE P